ENVIRONMENTAL PROTECTION AGENCY

[EPA-HQ-OW-2004-0013; FRL-9934-37-OW]

Proposed Information Collection Request; Comment Request; EPA Strategic Plan Information on Source Water Protection

AGENCY: Environmental Protection Agency (EPA).

ACTION: Notice.

SUMMARY: The U.S. Environmental Protection Agency (EPA) is planning to submit an information collection request (ICR), “EPA Strategic Plan Information on Source Water Protection” (EPA ICR No. 1816.06, OMB Control No. 2040-0197) to the Office of Management and Budget (OMB) for review and approval in accordance with the Paperwork Reduction Act (PRA) (44 U.S.C. 3501 et seq.). Before doing so, EPA is soliciting public comments on specific aspects of the proposed information collection as described in this renewal notice. This is a proposed extension of the existing ICR, which is approved through December 31, 2015. An Agency may not conduct or sponsor and a person is not required to respond to a collection of information unless it displays a currently valid OMB control number.

DATES: Comments must be submitted on or before November 17, 2015.

ADDRESSES: Submit your comments, identified by Docket ID No. EPA-HQ-OW-2004-0013, on-line using www.regulations.gov (our preferred method), by email to the OW Docket at OW-Docket@epa.gov or by mail to the Water Docket, Environmental Protection Agency, EPA Docket Center (EPA/DC), Mail Code: 28221T, 1200 Pennsylvania Ave. NW., Washington, DC 20460.

EPA's policy is that all comments received will be included in the public docket without change including any personal information provided, unless the comment includes profanities, threats, information claimed to be Confidential Business Information (CBI) or other information whose disclosure is restricted by statute.

FOR FURTHER INFORMATION CONTACT: Beth Hall, Drinking Water Protection Division—Prevention Branch, Office of Ground Water and Drinking Water (MC 4606M), Environmental Protection Agency, 1200 Pennsylvania Ave. NW., Washington, DC 20460; telephone number: 202-564-3883; fax number: 202-564-3756; email address: hall.beth@epa.gov.

SUPPLEMENTARY INFORMATION: Supporting documents that explain in detail the information that EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA specifically solicits comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility and clarity of the information to be collected; and (iv) minimize the burden of the collection of information on those who are to respond, including through the use of appropriate automated electronic, mechanical or other technological collection techniques or other forms of information technology. EPA will consider the comments received and amend the ICR as appropriate. The final ICR package will then be submitted to OMB for review and approval. At that time, EPA will issue another Federal Register notice to announce the submission of the ICR to OMB and the opportunity to submit additional comments to OMB.

Abstract: EPA is collecting, on a voluntary basis, data from the states on their progress toward substantial implementation of protection strategies for all community water systems (CWSs). The information to be collected will help states and EPA understand the progress toward the Agency's goal of increasing the number of CWSs (and the populations they serve) with minimized risk to public health through development and implementation of source water protection strategies for source water areas. In April of 2015, the National Water Program published guidance for meeting the water-related goals in the FY 2014-2018 EPA Strategic Plan. In keeping with this guidance, EPA specifically tracks the percentage of all CWSs that are implementing source water protection and the percentage of the total population which is served by those systems.

Form Numbers: None.

Respondents/affected entities: 51.

Respondent's obligation to respond: Voluntary.

Frequency of response: Annual.

Total estimated burden: 342 hours. Burden is defined at 5 CFR 1320.03(b).

Total estimated cost: $14,853 (per year).

Changes in Estimates: There is a decrease in the total estimated burden of 1,026 hours and a decrease in the total estimated cost of $130,416 from the existing ICR. This decrease is because source water protection programs are maturing. State databases are fully developed and tracking is routine compared to the burden and costs calculated for the existing ICR. The change in costs due to increased hourly labor charges is also factored into this estimate.

Dated: September 14, 2015.
Peter Grevatt,
Director, Office of Ground Water and Drinking Water.

[FR Doc. 2015-23476 Filed 9-17-15; 8:45 am]

BILLING CODE 6560-50-P